DEPARTMENT OF TRANSPORTATION

Federal Aviation Administration

14 CFR Part 39

[Docket No. FAA-2005-22792; Directorate Identifier 2005-NM-084-AD]

RIN 2120-AA64

Airworthiness Directives; BAE Systems (Operations) Limited Model Avro 146-RJ Airplanes

AGENCY: Federal Aviation Administration (FAA), Department of Transportation (DOT).

ACTION: Notice of proposed rulemaking (NPRM).

SUMMARY: The FAA proposes to adopt a new airworthiness directive (AD) for all BAE Systems (Operations) Limited Model Avro 146-RJ airplanes. This proposed AD would require reviewing the airplane's maintenance records to determine if certain tasks of the Bae146/Avro RJ Maintenance Planning Document have been accomplished. This proposed AD would also require doing repetitive detailed inspections of the external fuselage skin adjacent to the longeron at rib 0 from frame 29 to frame 31 and repairing any damage if necessary. This proposed AD results from issuance of mandatory continuing airworthiness information by a foreign civil airworthiness authority. We are proposing this AD to detect and correct cracking of the fuselage skin, which could result in structural failure of the fuselage.

DATES: We must receive comments on this proposed AD by November 28, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact British Aerospace Regional Aircraft American Support, 13850 Mclearen Road, Herndon, Virginia 20171, for service information identified in this proposed AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

We invite you to submit any relevant written data, views, or arguments regarding this proposed AD. Include the docket number “FAA-2005-22792; Directorate Identifier 2005-NM-084-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Civil Aviation Authority (CAA), which is the airworthiness authority for the United Kingdom, notified us that an unsafe condition may exist on all BAE Systems (Operations) Limited Model Avro 146-RJ airplanes. The CAA advises that, to ensure continued structural integrity of the fuselage skin, it has reduced the initial threshold for inspecting the fuselage skin adjacent to the longeron at rib 0 between frames 29 and 31 for cracking. Cracking of the fuselage skin, if not detected and corrected, could result in structural failure of the fuselage.

Relevant Service Information

BAE Systems (Operations) Limited has issued Inspection Service Bulletin ISB.53-177, dated June 29, 2004. The ISB describes procedures for doing repetitive detailed inspections of the external fuselage skin adjacent to the longeron at rib 0 from frame 29 to frame 31; repairing any damage if found; and contacting the manufacturer if damage is beyond the repair limits. Accomplishing the actions specified in the service information is intended to adequately address the unsafe condition. The CAA mandated the service information and issued British airworthiness directive G-2005-0009, dated March 9, 2005, to ensure the continued airworthiness of these airplanes in the United Kingdom.

The ISB refers to the following service information as additional sources of service information:

• Supplemental Structural Inspection 53-20-138 of the Maintenance Review Board Report, Revision 10, dated May 2004, for inspecting the external fuselage skin.

• BAE Systems (Operations) Limited Structural Repair Manual (SRM) for repairing certain damage.

FAA's Determination and Requirements of the Proposed AD

This airplane model is manufactured in the United Kingdom and is type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that we need to issue an AD for airplanes of this type design that are certificated for operation in the United States.

Therefore, we are proposing this AD, which would require accomplishing the actions specified in the service information described previously, except as discussed under “Difference Between the Proposed AD and Service Bulletin.”

Difference Between the Proposed AD and Service Bulletin

The service bulletin specifies to contact the manufacturer for instructions on how to repair certain conditions, but this proposed AD would require repairing those conditions using a method that we or the CAA (or its delegated agent) approve. In light of the type of repair that would be required to address the unsafe condition, and consistent with existing bilateral airworthiness agreements, we have determined that, for this proposed AD, a repair we or the CAA approve would be acceptable for compliance with this proposed AD.

Clarification of Inspection Terminology

The “detailed visual inspection” specified in British airworthiness directive G-2005-0009, dated March 9, 2005, and BAE Systems (Operations) Limited Inspection Service Bulletin ISB.53-177, dated June 29, 2004, is referred to as a “detailed inspection” in this proposed AD. We have included the definition for a detailed inspection in a note in the proposed AD.

Costs of Compliance

The following table provides the estimated costs for U.S. operators to comply with this proposed AD.

Estimated Costs
Action | Work hours | Average labor rate per hour | Parts | Cost per airplane | Number of U.S.-registered airplanes | Fleet cost
Records examination | 1 | $65 | None | $65 | 36 | $2,340.
Repetitive detailed inspection | 4 | 65 | None | 260 | 36 | $9,360, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

BAE Systems (Operations) Limited (Formerly British Aerospace Regional Aircraft): Docket No. FAA-2005-22792; Directorate Identifier 2005-NM-084-AD.

Comments Due Date

(a) The FAA must receive comments on this AD action by November 28, 2005.

Affected ADs

(b) None.

Applicability

(c) This AD applies to all BAE Systems (Operations) Limited Model Avro 146-RJ70A, 146-RJ85A, and 146-RJ100A airplanes, certificated in any category.

Unsafe Condition

(d) This AD results from issuance of mandatory continuing airworthiness information by a foreign civil airworthiness authority. We are issuing this AD to detect and correct cracking of the fuselage skin, which could result in structural failure of the fuselage.

Compliance

(e) You are responsible for having the actions required by this AD performed within the compliance times specified, unless the actions have already been done.

Maintenance Records Check

(f) Within 30 days after the effective date of this AD, review the airplane's maintenance records to determine if Tasks 532038-DVI-10000-1 and -2 of the Bae146/Avro RJ Maintenance Planning Document have been accomplished before the effective date of this AD. If review of the airplane's maintenance records cannot conclusively determine that Tasks 532038-DVI-10000-1 and -2 have been accomplished, do the detailed inspection specified in paragraph (g) of this AD at the applicable compliance time specified in paragraph (g)(1) or (g)(2) of this AD. If review of the airplane's maintenance records can conclusively determine that Tasks 532038-DVI-10000-1 and -2 have been accomplished, do the detailed inspection specified in paragraph (g) of this AD at the compliance time specified in paragraph (g)(3) of this AD.

Detailed Inspection and Corrective Action

(g) At the applicable compliance time specified in paragraph (g)(1), (g)(2), or (g)(3) of this AD, do a detailed inspection of the external fuselage skin adjacent to the longeron at rib 0 from frame 29 to frame 31, in accordance with the Accomplishment Instructions of BAE Systems (Operations) Limited Inspection Service Bulletin ISB.53-177, dated June 29, 2004. If any damage is found during any inspection required by this AD, before further flight, repair in accordance with the service bulletin; except where the service bulletin specifies to repair with an approved BAE Systems repair scheme, before further flight, repair the damage according to a method approved by either the Manager, International Branch, ANM-116, FAA, Transport Airplane Directorate; or the Civil Aviation Authority (or its delegated agent).

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 2: BAE Systems (Operations) Limited Inspection Service Bulletin ISB.53-177, dated June 29, 2004, refers to Supplemental Structural Inspection 53-20-138 of the Maintenance Review Board Report, Revision 10, dated May 2004, as an additional source of service information for inspecting the external fuselage skin. The service bulletin also refers to BAE Systems (Operations) Limited Structural Repair Manual (SRM) as an additional source of service information for repairing certain damage.

(1) For airplanes on which Tasks 532038-DVI-10000-1 and -2 of the Bae146/Avro RJ Maintenance Planning Document have not been accomplished but that have accumulated 22,000 total flight cycles or less as of the effective date of this AD: Inspect before accumulating 22,000 total flight cycles or within 6 months after the effective date of this AD, whichever is later. Thereafter repeat the detailed inspection at intervals not to exceed 12,000 flight cycles.

(2) For airplanes on which Tasks 532038-DVI-10000-1 and -2 of the Bae146/Avro RJ Maintenance Planning Document have not been accomplished but that have accumulated more than 22,000 total flight cycles as of the effective date of this AD: Inspect before accumulating 24,000 total flight cycles or within 6 months after the effective date of this AD, whichever is first. Thereafter repeat the detailed inspection at intervals not to exceed 12,000 flight cycles.

(3) For airplanes on which Tasks 532038-DVI-10000-1 and -2 of the Bae146/Avro RJ Maintenance Planning Document have been accomplished before the effective date of this AD: Inspect within 12,000 flight cycles after the most recent inspection. Thereafter repeat the detailed inspection at intervals not to exceed 12,000 flight cycles.

No Reporting Requirement

(h) Although the service bulletin referenced in this AD specifies to submit certain information to the manufacturer, this AD does not include that requirement.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(j) British airworthiness directive G-2005-0009, dated March 9, 2005, also addresses the subject of this AD.

Issued in Renton, Washington, on October 18, 2005.
Kevin M. Mullin,
Acting Manager, Transport Airplane Directorate, Aircraft Certification Service.

[FR Doc. 05-21436 Filed 10-26-05; 8:45 am]

BILLING CODE 4910-13-P